DEPARTMENT OF THE INTERIOR

Bureau of Land Management

[WY-040-1220-BY]

Notice of Intent To Prepare an Environmental Assessment and To Consider Amending the Green River Resource Management Plan

AGENCY: Bureau of Land Management, Interior.

ACTION: Notice of intent to prepare an Environmental Assessment (EA) to consider amending the Green River Resource Management Plan (RMP) by designating the Pilot Butte/Wild Horse National Back Country Byway, and request for public participation.

SUMMARY: The Bureau of Land Management (BLM) is considering a National Back Country Byway designation for portions of Sweetwater County (Wyoming) Roads 4-14 and 4-53, crossing BLM-administered public lands. The BLM invites the public to participate in the planning effort and to identify management needs and issues associated with the proposed National Back Country Byway designation. If the planning effort results in a decision to designate a National Back Country Byway, the Green River RMP will be amended accordingly.

DATES: The BLM invites the public to identify issues and concerns to be addressed in the EA to be prepared for the potential RMP amendment. Submissions should be in writing or by e-mail (see addresses below) and must be postmarked no later than 30 days following the date of publication of this notice in the Federal Register. Future public involvement activities, opportunities, and review/comment periods will be announced at least 15 days in advance through other notices, media releases, or mailings.

ADDRESSES: Comments should be submitted in writing to: Field Manager, Bureau of Land Management, Rock Springs Field Office, 280 Highway 191 North, Rock Springs, Wyoming 82901, or by e-mail to: [rock_springs_wymail@blm.gov]. Comments, including names and street addresses of respondents, will be available for public review at the Rock Springs Field Office during regular business hours (7:45 a.m. to 4:30 p.m.), Monday through Friday, except legal holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Bernie Weynand, Assistant Field Manager, at the above addresses or e-mail, or at telephone number (307) 352-0246. Persons wishing to be placed on the mailing list and to participate in the planning effort should contact Bernie Weynand, Assistant Field Manager, at the address, telephone number or e-mail address above.

SUPPLEMENTARY INFORMATION: Under a cooperative agreement, the BLM, Sweetwater County, and the Cities of Rock Springs and Green River, Wyoming, have established a wild horse viewing and interpretive loop driving tour on portions of County Roads 4-14 and 4-53 crossing BLM-administered public lands. These actions were addressed in an EA before they were implemented. BLM has determined that this interpretive driving loop meets the criteria for designation as a National Back Country Byway.

While the proposed byway designation is in conformance with the general provisions of the Green River RMP decisions, a National Back Country Byway designation requires a specific land use planning decision. Because this particular designation was not one of the decisions previously made in the Green River RMP (1997), to do so now would require amending the RMP. The EA to be prepared will tier from the Environmental Impact Statement prepared for the Green River RMP as well as the EA prepared for the viewing areas and interpretive signs that have been put in place. The analysis will focus on the comparative socio-economic affects, along with any associated affects to other resources and land uses, of either designating or not designating the proposed byway.

The planning effort will include opportunities for public participation. A public review and comment period will be held on the completed EA before a decision is made on the proposed byway designation.

Any proposal to amend the Green River RMP decisions as a result of the planning effort will also be subject to protest by parties who participate in the planning process and who have an interest which is, or may be, adversely affected by the adoption of any RMP decision amendments, as provided by Title 43, Code of Federal Regulations, § 1610.5-2.

Dated: May 6, 2002.
Alan R. Pierson,
State Director.

[FR Doc. 02-24299 Filed 9-24-02; 8:45 am]

BILLING CODE 4310-22-P